DEPARTMENT OF ENERGY

Federal Energy Regulatory Commission

Notice of Effectiveness of Exempt Wholesale Generator Status

| Docket Nos.
GSP Lost Nation LLC | EG18-27-000
GSP Merrimack LLC | EG18-28-000
GSP Newington LLC | EG18-29-000
GSP Schiller LLC | EG18-30-000
GSP White Lake LLC | EG18-31-000
Gray Hawk Solar, LLC | EG18-32-000
Gregory Power Partners LLC | EG18-33-000
Montpelier Generating Station, LLC | EG18-34-000
Monument Generating Station, LLC | EG18-35-000
O.H. Hutchings CT, LLC | EG18-36-000
Sidney, LLC | EG18-37-000
Tait Electric Generating Station, LLC | EG18-38-000
Yankee Street, LLC | EG18-39-000

Take notice that during the month of March 2018, the status of the above-captioned entities as Exempt Wholesale Generators became effective by operation of the Commission's regulations. 18 CFR 366.7(a)(2017).

Nathaniel J. Davis, Sr.,
Deputy Secretary.

[FR Doc. 2018-08306 Filed 4-19-18; 8:45 am]

BILLING CODE 6717-01-P